DEPARTMENT OF ENERGY

Federal Energy Regulatory Commission

[Docket No. CP02-417-000]

Colorado Interstate Gas Company; Notice of Application

August 6, 2002.

Take notice that on July 31, 2002, Colorado Interstate Gas Company (CIG), Post Office Box 1087, Colorado Springs, Colorado, 80944, in Docket No. CP02-417-000 filed an application pursuant to section 7(b) of the Natural Gas Act (NGA) and the Commission's Rules and Regulations, for permission and approval for CIG to abandon by sale and transfer certain certificated and non-certificated facilities, involved in the gathering of natural gas, located in Carson, Moore, Potter, Hartley, Hutchinson and Oldham Counties, Texas, which are part of the Panhandle Field, to Pioneer Natural Resources USA, Inc. (Pioneer), all as more fully set forth in the application which is on file with the Commission and open to public inspection. This filing is available for review at the Commission in the Public Reference Room or may be viewed on the Commission's Web site at http://www.ferc.gov using the “FERRIS” link. Enter the docket number excluding the last three digits in the docket number field to access the document. For assistance, call (202) 502-8222 or for TTY, (202) 208-1659.

Any questions regarding CIG's application should be directed to Robert T. Tomlinson, Director, Regulatory Affairs, Colorado Interstate Gas Company, P. O. Box 1087, Colorado Springs, Colorado 80944 at (719) 520-3788 or by fax at (719) 667-7534 or Judy A. Heineman, Vice President and General Counsel, Colorado Interstate Gas Company, Post Office Box 1087 Colorado Springs, Colorado, 80944 at (719) 520-4829 or by fax at (719) 520-4898.

CIG and Pioneer have entered into an agreement for the transfer of these facilities at a value at the time of transfer of $19.5 million. CIG states that the facilities to be transferred consists of: (i) Approximately 700 miles of pipeline ranging in size from 2-inches to 24-inches in diameter with approximately 781 wells attached, (ii) approximately 49,000 horsepower of field compression, (iii) approximately 42 miles of fuel gas lines ranging in size from 2-inch to 20-inch diameter, and (iv) appurtenant facilities. CIG explains that the transfer to Pioneer consists of certain certificated facilities in addition to certain non-jurisdictional facilities that participate in the gathering of natural gas and the operation of a non-jurisdictional gathering system. CIG requests that the Commission issue an order approving the abandonment to be effective January 1, 2003, or earlier. CIG states that the transfer to Pioneer will not adversely affect customers as Pioneer will continue to provide the services that CIG previously provided.

As a result of the proposed abandonment, CIG also proposes to revise Volume No. 1 of its FERC Gas Tariff to remove references to gathering services and gathering rates and charges, and to cancel Rate Schedule X-5 and Volume No. 2 of its FERC Gas Tariff. Subsequently, Pioneer will file an application for a Declaratory Order with the Commission regarding these facilities.

There are two ways to become involved in the Commission's review of this project. First, any person wishing to obtain legal status by becoming a party to the proceedings for this project should, on or before August 27, 2002, file with the Federal Energy Regulatory Commission, 888 First Street, NE., Washington, DC 20426, a motion to intervene in accordance with the requirements of the Commission's rules of practice and procedure (18 CFR 385.214 or 385.211) and the regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. See, 18 CFR 385.2001(a)(1)(iii) and the instructions on the Commission's Web site under the “e-Filing” link.

If the Commission decides to set the application for a formal hearing before an Administrative Law Judge, the Commission will issue another notice describing that process. At the end of the Commission's review process, a final Commission order approving or denying a certificate will be issued.

Linwood A. Watson, Jr.,
Deputy Secretary.

[FR Doc. 02-20309 Filed 8-9-02; 8:45 am]

BILLING CODE 6717-01-P